DEPARTMENT OF HEALTH AND HUMAN SERVICES

Food and Drug Administration

Food Advisory Committee; Notice of Meeting

AGENCY: Food and Drug Administration, HHS.

ACTION: Notice.

This notice announces a forthcoming meeting of a public advisory committee of the Food and Drug Administration (FDA). The meeting will be open to the public.

Name of Committee: Food Advisory Committee.

General Function of the Committee: To provide advice and recommendations to the agency on FDA's regulatory issues.

Date and Time: The meeting will be held on September 26, 2000, 8:30 a.m. to 5 p.m. and September 27, 2000, 8:30 a.m. to 2 p.m.

Location: Hilton Towers (Ballston Metro Stop), Gallery I and II, 950 North Stafford St., Arlington, VA.

Contact Person: Catherine M. DeRoever, Center for Food Safety and Applied Nutrition (HFS-6), Food and Drug Administration, 200 C St. SW., Washington, DC 20204, 202-205-4251, FAX 202-205-4970, or e-mail: cderoever@cfsan.fda.gov., or FDA Advisory Committee Information Line, 1-800-741-8138 (301-443-0572 in the Washington, DC area), code 10564. Please call the Information Line for up-to-date information on this meeting.

Agenda: On September 26 and 27, 2000, the committee will meet to discuss existing information and needs with respect to probiotics.

Procedure: Interested persons may present data, information, or views, orally or in writing, on issues pending before the committee (such as the use of probiotics in foods, probiotics and the immune system, probiotics and infants, etc). Written submissions may be made to the contact person by September 20, 2000. Oral presentations from the public will be scheduled between approximately 3:30 p.m. and 4:30 p.m. on September 26, 2000. Time allotted for each presentation may be limited. Those desiring to make formal oral presentations should notify the contact person before September 20, 2000, and submit a brief statement of the general nature of the evidence or arguments they wish to present, the names and addresses of proposed participants, and an indication of the approximate time requested to make their presentation.

Notice of this meeting is given under the Federal Advisory Committee Act (5 U.S.C. app. 2).

Dated: August 29, 2000.
Linda A. Suydam,
Senior Associate Commissioner.

[FR Doc. 00-23163 Filed 9-8-00; 8:45 am]

BILLING CODE 4160-01-F